DEPARTMENT OF LABOR

Office of Workers' Compensation Programs

Advisory Board on Toxic Substances and Worker Health: Subcommittee on the Site Exposure Matrices (SEM); Meeting

AGENCY: Office of Workers' Compensation Programs, Labor.

ACTION: Meeting notice.

SUMMARY: Announcement of meeting of the Subcommittee on the Site Exposure Matrices of the Advisory Board on Toxic Substances and Worker Health (Advisory Board) for the Energy Employees Occupational Illness Compensation Program Act (EEOICPA).

DATES: The subcommittee will meet via teleconference on September 20, 2016, from 1 p.m. to 3 p.m. Eastern Time.

FOR FURTHER INFORMATION CONTACT: You may contact Antonio Rios, Designated Federal Officer, at rios.antonio@dol.gov, or Carrie Rhoads, Alternate Designated Federal Officer, at rhoads.carrie@dol.gov, U.S. Department of Labor, 200 Constitution Avenue NW., Suite S-3524, Washington, DC 20210, telephone (202) 343-5580. This is not a toll-free number.

For Press Inquiries Contact: For press inquiries: Ms. Amanda McClure, Office of Public Affairs, U.S. Department of Labor, Room S-1028, 200 Constitution Avenue NW., Washington, DC 20210; telephone (202) 693-4672; email mcclure.amanda.c@dol.gov.

SUPPLEMENTARY INFORMATION: The Advisory Board is mandated by Section 3687 of EEOICPA. The Secretary of Labor established the Board under this authority and Executive Order 13699 (June 26, 2015). The purpose of the Advisory Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Advisory Board sunsets on December 19, 2019. This subcommittee is being assembled to gather and analyze data and continue working on advice under Area #1, the Site Exposure Matrices.

The Advisory Board operates in accordance with the Federal Advisory Committee Act (FACA) (5 U.S.C. App. 2) and its implementing regulations (41 CFR part 102-3).

Agenda: The tentative agenda for the Subcommittee on the Site Exposure Matrices meeting includes: Discuss Institute of Medicine report on SEM and follow-up actions taken since its issuance; discuss Occupational History Questionnaire and possible improvements; review information and data provided by the DEEOIC program related to the SEM database; discuss claims examiner training.

OWCP transcribes Advisory Board subcommittee meetings. OWCP posts the transcripts on the Advisory Board Web page, http://www.dol.gov/owcp/energy/regs/compliance/AdvisoryBoard.htm, along with written comments and other materials submitted to the subcommittee or presented at subcommittee meetings.

Public Participation, Submissions, and Access to the Public Record

Subcommittee meeting: The subcommittee will meet via teleconference on Tuesday, September 20, 2016, from 1:00 p.m. to 3:00 p.m. Eastern Time. Advisory Board subcommittee meetings are open to the public. The teleconference number and other details for listening to the meeting will be posted on the Advisory Board's Web site no later than 72 hours prior to the meeting. This information will be posted at http://www.dol.gov/owcp/energy/regs/compliance/AdvisoryBoard.htm.

Requests for special accommodations: Please submit requests for special accommodations to participate in the subcommittee meeting by email, telephone, or hard copy to Ms. Carrie Rhoads, OWCP, Room S-3524, U.S. Department of Labor, 200 Constitution Avenue NW., Washington, DC 20210; telephone (202) 343-5580; email EnergyAdvisoryBoard@dol.gov.

Submission of written comments for the record: You may submit written comments, identified by the subcommittee name and the meeting date of September 20, 2016, by any of the following methods:

• Electronically: Send to: EnergyAdvisoryBoard@dol.gov (specify in the email subject line, “Subcommittee on the Site Exposure Matrices”).

• Mail, express delivery, hand delivery, messenger, or courier service: Submit one copy to the following address: U.S. Department of Labor, Office of Workers' Compensation Programs, Advisory Board on Toxic Substances and Worker Health, Room S-3522, 200 Constitution Ave. NW., Washington, DC 20210. Due to security-related procedures, receipt of submissions by regular mail may experience significant delays.

Comments must be received by September 13, 2016. OWCP will make available publically, without change, any written comments, including any personal information that you provide. Therefore, OWCP cautions interested parties against submitting personal information such as Social Security numbers and birthdates.

Electronic copies of this Federal Register notice are available at http://www.regulations.gov. This notice, as well as news releases and other relevant information, are also available on the Advisory Board's Web page at http://www.dol.gov/owcp/energy/regs/compliance/AdvisoryBoard.htm.

Leonard J. Howie III,
Director, Office of Workers' Compensation Programs.

[FR Doc. 2016-20419 Filed 8-24-16; 8:45 am]

BILLING CODE 4510-24-P